Proclamation 8819 of May 14, 2012

National Defense Transportation Day and National Transportation Week, 2012

By the President of the United States of America

A Proclamation

From the railroads that connected our continent in the 19th century to the highways that drove progress during the 20th, American infrastructure has fueled our Nation’s growth for generations. Our roads, rails, runways, and shipyards have formed the foundation for a thriving global marketplace, and our transportation networks have enabled our first responders and service members to react with speed and efficiency during crisis. On National Defense Transportation Day and during National Transportation Week, we celebrate that rich legacy and recommit to building robust infrastructure that will accelerate our economy in the years ahead.

The need for strong and sustainable transportation networks has never been greater. While transportation systems across our country continue to connect millions of Americans to new economic opportunities, for too many businesses, the state of our roads and railways creates a competitive disadvantage that discourages investment and slows the pace of progress. Crumbling bridges put our safety at risk, and antiquated infrastructure limits our capacity to respond to threats, emergencies, and hazards at home and abroad. These situations diminish our security, our prosperity, and our resilience, and we must do more to address them.

That is why my Administration has prioritized strategic, long-term investments in transportation infrastructure that will keep America safe and ensure we can compete and succeed in the global economy. Through the American Recovery and Reinvestment Act and the Transportation Investment Generating Economic Recovery (TIGER) Discretionary Grant program, all 50 States have launched new highway and infrastructure projects, and many have funded passenger rail development that will modernize our cities and help put more construction workers back on the job. Moving forward, we remain committed to upgrading our infrastructure; ensuring the safety and security of our transportation systems; bringing diverse, sustainable transit opportunities to communities across our country; and investing in innovative solutions to address the transportation challenges of today and tomorrow.

An economy built to last depends on a world-class infrastructure system. This week, as we come together in pursuit of that critical goal, let us recall that as long as we are joined in common purpose and common resolve, our Nation remains strong, and our journey moves forward.

In recognition of the importance of our Nation’s transportation infrastructure, and of the men and women who build, maintain, and utilize it, the Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 18, 2012, as National Defense Transportation Day and May 13 through May 19, 2012, as National Transportation Week. I call upon all Americans to recognize the importance of our Nation’s transportation infrastructure and to acknowledge the contributions of those who build, operate, and maintain it.

IN WITNESS WHEREOF, I have hereunto set my hand this fourteenth day of May, in the year of our Lord two thousand twelve, and of the Independence of the United States of America the two hundred and thirty-sixth.

[FR Doc. 2012-12221

Filed 5-17-12; 8:45 am]

Billing code 3295-F2-P